DEPARTMENT OF HEALTH AND HUMAN SERVICES

Administration on Aging

Availability of Funding Opportunity Announcement

Funding Opportunity Title/Program Name: Performance Outcomes Measures Project.

Announcement Type: Initial.

Funding Opportunity Number: Program Announcement No. HHS-2006-AoA-PO-0612.

Statutory Authority: The Older Americans Act, Public Law 106-501.

Catalog of Federal Domestic Assistance (CFDA) Number: 93.048, Title IV and Title II, Discretionary Projects.

Dates: The deadline date for the submission of applications is August 15, 2006.

I. Funding Opportunity Description

The purpose of this announcement is to solicit applications for POMP projects that will complete work on the POMP-developed performance measurement surveys and enhance their utility for the Aging Network as follows:

• Conduct validity tests for POMP surveys.

• Conduct pilot testing for statewide performance measurement methodology.

• Assist in the development of performance measurement toolkits for use by the Aging network.

A detailed description of the funding opportunity may be found at http://www.grants.gov.

II. Award Information

1. Funding Instrument Type: Grants.

2. Anticipated Total Priority Area Funding per Budget Period: These grants are two-year projects. For the first year, AoA intends to make available, under this program announcement, grant awards for 6 to 10 projects at a federal share of approximately $35,000-$50,000. The maximum award will be $50,000. Second year award amounts will be similar to first year amounts, contingent on the availability of federal funds and satisfactory progress.

III. Eligibility Criteria and Other Requirements

1. Eligible Applicants

Eligibility for grant awards is limited to State Agencies on Aging.

2. Cost Sharing or Matching

Grantees are required to provide at least 25 percent of the total program costs from non-federal cash or in-kind resources in order to be considered for the award.

3. DUNS Number

All grant applicants must obtain a D-U-N-S number from Dun and Bradstreet. It is a nine-digit identification number, which provides unique identifiers of single business entities. The D-U-N-S number is free and easy to obtain from: http://www.dnb.com/US/duns_update/.

4. Intergovernmental Review

Executive Order 12372, Intergovernmental Review of Federal Programs, is not applicable to these grant applications.

IV. Application and Submission Information

1. Address To Request Application Package

Application kits are available by writing to the U.S. Department of Health and Human Services, Administration on Aging, Office of Evaluation, Washington, DC 20201, by calling 202-357-0145, or online at http://www.grants.gov.

Please note AoA is requiring applications for this announcement to be submitted electronically through http://www.grants.gov. The Grants.gov registration process can take several days. If your organization is not currently registered with www.grants.gov, please begin this process immediately. For assistance with http://www.grants.gov, please contact Arthur Miller at AoA's Grants.gov helpdesk at 202-357-3438. At http://www.grants.gov, you will be able to download a copy of the application packet, complete it off-line, and then upload and submit the application via the Grants.gov Web site.

2. Address for Application Submission

Applicants unable to submit their application via http://www.grants.gov may request permission to submit a hard copy from Stephen Daniels, Director, Office of Grants Management at Stephen.Daniels@aoa.hhs.gov.

With prior approval, applications may be mailed to the U.S. Department of Health and Human Services, Administration on Aging, Office of Grants Management, Washington, DC 20201, attn: Stephen Daniels.

With prior approval, Applications may be delivered (in person, via messenger) to the U.S. Department of Health and Human Services, Administration on Aging, Office of Grants Management, One Massachusetts Avenue, NW., Room 4604, Washington, DC 20001, attn: Stephen Daniels.

If you elect to mail or hand deliver your application, you must submit one original and two copies of the application. Instructions for electronic mailing of grant applications are available at http://www.grants.gov.

3. Submission Dates and Times

To receive consideration, applications must be received by the deadline listed in the Dates section of this Notice.

V. Responsiveness Criteria

Each application submitted will be screened to determine whether it was received by the closing date and time. Applications that fail to meet the application due date will not be reviewed and will receive no further consideration.

VI. Application Review Information

Eligible applications in response to this announcement will be reviewed according to the following evaluation criteria:

• Purpose and Need for Assistance—(20 points).

• Approach/Method—Workplan and Activities—(35 points).

• Outcomes/Evaluation/Dissemination—(25 points).

• Level of Effort—(20 points).

VII. Agency Contacts

Direct inquiries regarding programmatic issues to U.S. Department of Health and Human Services, Administration on Aging, Office of Evaluation, Washington, DC 20201, telephone: (202) 357-0145.

Dated: July 3, 2006.
Josefina G. Carbonell,
Assistant Secretary for Aging.

[FR Doc. E6-10641 Filed 7-6-06; 8:45 am]

BILLING CODE 4154-01-P